DEPARTMENT OF COMMERCE

International Trade Administration

[A-570-888]

Notice of Preliminary Determination of Sales at Less Than Fair Value: Floor-Standing, Metal-Top Ironing Tables and Certain Parts Thereof from the People's Republic of China

AGENCY: Import Administration, International Trade Administration, Department of Commerce.

ACTION: Notice of Preliminary Determination of Sales at Less Than Fair Value.

EFFECTIVE DATE: February 3, 2004.

FOR FURTHER INFORMATION CONTACT: Paige Rivas or Sam Zengotitabengoa, AD/CVD Enforcement, Office 4, Group II, Import Administration, International Trade Administration, U.S. Department of Commerce, 14th Street and Constitution Avenue, N.W., Washington, DC 20230; telephone: (202) 482-0651 or (202) 482-4195, respectively.

SUPPLEMENTARY INFORMATION:

Preliminary Determination

We preliminarily determine that floor-standing, metal-top ironing tables and certain parts thereof (ironing tables) from the People's Republic of China (PRC) are being sold, or are likely to be sold, in the United States at less than fair value (LTFV), as provided in section 773 of the Tariff Act of 1930, as amended (the Act). The estimated margins of sales at LTFV are shown in the “Suspension of Liquidation” section of this notice.

Case History

This investigation was initiated on July 21, 2003. See Notice of Initiation of Antidumping Investigation: Floor-Standing, Metal-Top Ironing Tables and Certain Parts Thereof from the People's Republic of China, 68 FR 44040 (July 25, 2003) (Initiation Notice).¹ Since the initiation of the investigation, the following events have occurred.

¹ The petitioner in this investigation is Home Products International, Inc.

On August 14, 2003, the United States International Trade Commission (ITC) preliminarily determined that there is a reasonable indication that an industry in the United States is materially injured by reason of imports of ironing tables from the PRC. See Ironing Tables and Certain Parts Thereof From China, 68 FR 50190 (August 20, 2003).

On July 31, 2003, the Department issued Section A of its non-market economy (NME) antidumping questionnaire² to all known companies³ that allegedly produced and/or exported ironing tables from the PRC. In the questionnaire, the Department requested the companies to provide quantity and value information of subject merchandise exports to the United States during the period of investigation (POI). On July 30, 2003, and July 31, 2003, respectively, the Department issued the antidumping questionnaire to the Embassy of the PRC in Washington, D.C., and to the PRC Ministry of Commerce, Fair Trade Bureau (MOC) in Beijing. The Department requested that MOC send the questionnaire to the companies who manufacture and export ironing tables to the United States, as well as to manufacturers who produce ironing tables for companies who were engaged in exporting subject merchandise to the United States during the POI.

² Section A of the NME questionnaire requests general information concerning a company's corporate structure and business practices, the merchandise under investigation that it sells, and the manner in which it sells that merchandise in all of its markets. Section C requests a complete listing of U.S. sales. Section D requests information on the factors of production of the merchandise sold in or to the United States. Section E requests information on further manufacturing.

³ The Department gathered the following PRC company names from the June 30, 2003, petition and the country desk in Beijing. See Memorandum from Sam Zengotitabengoa, International Trade Compliance Analyst, to the File, “Listing of Chinese Ironing Board Producers & Exporters,” dated August 4, 2003. These companies include: Eagle Metal Furniture Manufacturer Co., Ltd.; Fuyali Houseware Co., Ltd.; Gaoming Lihe Daily Necessities Co., Ltd.; Guangdong Ironing Board Factory; Hongfong Hardware Manufactory Co., Ltd.; Jiangmen Silk Import and Export Corporation of Guangdong; Shunde Wireking Group Wanrong Hardware Co., Ltd.; Since Hardware (Guangzhou) Co., Ltd.; Wireking Group; Lerado Industrial (Zhongshan) Co.; New Tech Integrated; He Bei Orient Hardware and Mesh Products Co., Ltd.; Guang Dong General Industry Development Co. Ltd.; Nan Hai Yan Bu Zhua Hai Hardware and Furniture Factory; Hai Tong Industrial Co. Ltd.; Hui Hui Tools Co., Ltd.; Jia Jun Ironing Board Factory; Jia Shan Ji Ji Ironing Board Factory; Guang Zhou Quanyong Novwoven Co., Ltd.; Shun De Yong Jian Housewares Co., Ltd.; Fu Gang Trade Co., Ltd.; and, Guang Dong Xin Hui Arts and Crafts Import and Export Co, Ltd.

As a result of our analysis of the quantity and value responses to the questionnaire, the Department selected two mandatory respondents, Since Hardware (Guangzhou) Co., Ltd. (Since Hardware) and Shunde Yongjian Housewares Co., Ltd. (Yongjian). On September 10, 2003, the Department issued Section C and D questionnaires to Since Hardware and Yongjian. In September 2003, Forever Holdings Ltd. (Forever Holdings), Harvest International Housewares Ltd. (Harvest), Lerado (Zhoong Shan) Industrial Co., Ltd. (Lerado), and Gaoming Lihe Daily Necessities Co., Ltd. (Lihe), responded to Section A of the Department's questionnaire, as non-mandatory respondents, for purposes of obtaining separate rates. By October 15, 2003, Since Hardware and Yongjian responded to Sections C and D of the Department's questionnaire. The Department issued supplemental questionnaires where appropriate.

On November 21, 2003, pursuant to section 733(c)(1)(A) of the Act, the Department postponed the preliminary determination of this investigation until January 26, 2004. See Floor-Standing, Metal-Top Ironing Tables and Certain Parts Thereof From the People's Republic of China: Postponement of Preliminary Determination of Antidumping Duty Investigation, 68 FR 66816 (November 28, 2003).

Selection of Respondents

Section 777A(c)(1) of the Act directs the Department to calculate individual dumping margins for each known exporter and producer of the subject merchandise. Where it is not practicable to examine all known producers/exporters of subject merchandise, section 777A(c)(2) of the Act permits the Department to investigate either: (1) a sample of exporters, producers, or types of products that is statistically valid, based on the information available at the time of selection; or (2) exporters and producers accounting for the largest volume of the subject merchandise that can reasonably be examined. We received quantity and value information from six known producers of the subject merchandise in the PRC. Since Hardware and Yongjian were the producers of subject merchandise accounting for the largest volume of exports to the United States during the POI. Therefore, we selected Since Hardware and Yongjian as mandatory respondents in this investigation. See Memorandum from Thomas F. Futtner, Acting Office Director, Office 4, to Holly A. Kuga, Acting Deputy Assistant Secretary, Group II, “Respondent Selection Memorandum,” dated September 10, 2003, on file in the Central Records Unit, Room B-099 of the Main Commerce Building (CRU).

Period of Investigation

The POI is October 1, 2002, through March 31, 2003. This period corresponds to the two most recent fiscal quarters prior to the month of the filing of the petition (i.e., June 2003). See 19 CFR 351.204(b)(1).

Scope of Investigation

For purposes of this investigation, the product covered consists of floor-standing, metal-top ironing tables, assembled or unassembled, complete or incomplete, and certain parts thereof. The subject tables are designed and used principally for the hand ironing or pressing of garments or other articles of fabric. The subject tables have full-height leg assemblies that support the ironing surface at an appropriate (often adjustable) height above the floor. The subject tables are produced in a variety of leg finishes, such as painted, plated, or matte, and they are available with various features, including iron rests, linen racks, and others. The subject ironing tables may be sold with or without a pad and/or cover. All types and configurations of floor-standing, metal-top ironing tables are covered by this investigation.

Furthermore, this investigation specifically covers imports of ironing tables, assembled or unassembled, complete or incomplete, and certain parts thereof. For purposes of this investigation, the term “unassembled” ironing table means a product requiring the attachment of the leg assembly to the top or the attachment of an included feature such as an iron rest or linen rack. The term “complete” ironing table means a product sold as a ready-to-use ensemble consisting of the metal-top table and a pad and cover, with or without additional features, e.g. iron rest or linen rack. The term “incomplete” ironing table means a product shipped or sold as a “bare board” i.e., a metal-top table only, without the pad and cover- with or without additional features, e.g. iron rest or linen rack. The major parts or components of ironing tables that are intended to be covered by this investigation under the term “certain parts thereof” consist of the metal top component (with or without assembled supports and slides) and/or the leg components, whether or not attached together as a leg assembly. The investigation covers separately shipped metal top components and leg components, without regard to whether the respective quantities would yield an exact quantity of assembled ironing tables.

Ironing tables without legs (such as models that mount on walls or over doors) are not floor-standing and are specifically excluded. Additionally, tabletop or counter top models with short legs that do not exceed 12 inches in length (and which may or may not collapse or retract) are specifically excluded.

The subject ironing tables were previously classified under Harmonized Tariff Schedule of the United States (HTSUS) subheading 9403.20.0010. Effective July 1, 2003, the subject ironing tables are classified under the new HTSUS subheading 9403.20.0011. The subject metal top and leg components are classified under HTSUS subheading 9403.90.8040. Although the HTSUS subheadings are provided for convenience and customs purposes, the written description of the scope remains dispositive.

Product Coverage

In accordance with the preamble to the Department's regulations (see Antidumping Duties; Countervailing Duties; Final Rule, 62 FR 27295, 27323 (May 19, 1997)) (Regulations Preamble), in our notice of initiation we set aside a period of time for parties to raise issues regarding product coverage and encouraged all parties to submit comments within 20 days from the publication of the Initiation Notice. See Initiation Notice, 68 FR at 44041. No parties submitted comments.

Non-Market Economy Country Status

The Department has treated the PRC as an NME country in all its past antidumping investigations. See Notice of Final Determination of Sales at Less Than Fair Value: Certain Circular Welded Carbon-Quality Steel Pipe from the People's Republic of China, 67 FR 36570, 36571 (May 24, 2002); and Notice of Final Determination of Sales at Less Than Fair Value: Structured Steel Beams from the People's Republic of China, 67 FR 35479, 35480 (May 20, 2000); and Notice of Final Determination of Sales at Less Than Fair Value Certain: Folding Metal Tables and Chairs from the People's Republic of China, 67 FR 20090 (April 24, 2002). In accordance with section 771(18)(C) of the Act, any determination that a foreign country is an NME country shall remain in effect until revoked. No party to this investigation has sought revocation of the NME status of the PRC. Therefore, pursuant to section 771(18)(C) of the Act, the Department will continue to treat the PRC as an NME country.

When the Department is investigating imports from an NME country, section 773(c)(1) of the Act directs the Department to base normal value (NV) on the NME producer's factors of production, valued in a comparable market economy that is a significant producer of comparable merchandise. The sources of individual factor prices are discussed under the “Normal Value” section, below.

Separate Rates

In an NME proceeding, the Department presumes that all companies within the country are subject to governmental control and should be assigned a single antidumping duty rate unless the respondent demonstrates the absence of both de jure and de facto governmental control over its export activities. See Notice of Final Determination of Sales at Less Than Fair Value: Bicycles From the People's Republic of China, 61 FR 19026, 19027 (April 30, 1996) (Bicycles from the PRC). Since Hardware, Yongjian, Forever Holdings, Lerado, Harvest, and Lihe have provided the requested company-specific separate rates information and have indicated that there is no element of government ownership or control over their operations. We have considered whether these companies are eligible for a separate rate, as discussed below.

The Department's separate-rates test is not concerned, in general, with macroeconomic border-type controls (e.g., export licenses, quotas, and minimum export prices), particularly if these controls are imposed to prevent dumping. Rather, the test focuses on controls over the decision-making process on export-related investment, pricing, and output at the individual firm level. See Notice of Final Determination of Sales at Less Than Fair Value: Certain Cut-to-Length Carbon Steel Plate From Ukraine, 62 FR 61754, 61757 (November 19, 1997); Tapered Roller Bearings and Parts Thereof, Finished and Unfinished, from the People's Republic of China: Final Results of Antidumping Duty Administrative Review, 62 FR 61276, 61279 (November 17, 1997); and Notice of Preliminary Determination of Sales at Less Than Fair Value: Honey From the People's Republic of China, 60 FR 14725, 14727 (March 20, 1995).

To establish whether a firm is sufficiently independent from government control to be entitled to a separate rate, the Department analyzes each exporting entity under a test arising out of the Final Determination of Sales at Less Than Fair Value: Sparklers from the People's Republic of China, 56 FR 20588 (May 6, 1991), as modified in the Final Determination of Sales at Less Than Fair Value: Silicon Carbide from the People's Republic of China, 59 FR 22585, 22587 (May 2, 1994) (Silicon Carbide). Under this test, the Department assigns separate rates in NME cases only if an exporter can demonstrate the absence of both de jure and de facto governmental control over its export activities. See Silicon Carbide and the Notice of Final Determination of Sales at Less Than Fair Value: Furfuryl Alcohol From the People's Republic of China, 60 FR 22544, 22545 (May 8, 1995).

In order for the Department to determine whether a company is sufficiently independent to be entitled to a separate rate, the companies must establish that they exported the subject merchandise to the United States during the POI. In accordance with 19 CFR 351.401(i), the Department will normally use the date of invoice to identify the date of sale of the subject merchandise. However, the Department may use a date other than the date of invoice if it is satisfied that a different date better reflects the date on which the exporter establishes the material terms of sale. In this instance, the Department found all but one of the companies to have exported subject merchandise to the United States during the POI. The Department cannot consider Lerado an exporter who made subject merchandise sales to the United States during the POI because Lerado did not present satisfactory evidence establishing that it had sold subject merchandise to the United States during the POI. See 19 CFR 351.401(i); see Regulations Preamble, at 27349; see Memorandum from Sam Zengotitabengoa, International Trade Compliance Analyst, Office IV, to Thomas F. Futtner, Acting Office Director, Office IV, “Separate Rates Analysis for the Preliminary Determination in the Antidumping Duty Investigation of Floor-Standing, Metal-Top Ironing Tables and Certain Parts Thereof from the People's Republic of China,” dated concurrently with this notice (Separate Rates Memo), on file in the CRU.

Because we preliminarily find that Lerado did not export subject merchandise to the United States during the POI, we are not able to evaluate whether Lerado qualifies for a separate rate. See Titanium Sponge From the Russian Federation: Notice of Final Results of Antidumping Duty Administrative Review, 61 FR 58525, 58528 (November 15, 1996), (where the Department states that “{A}lthough AVISMA made a separate rate claim, because there are no sales to the United States by AVISMA, we are not able to evaluate the company's separateness request.”)

1. Absence of De Jure Control

The Department considers the following de jure criteria in determining whether an individual company may be granted a separate rate: (1) an absence of restrictive stipulations associated with an individual exporter's business and export licenses; (2) any legislative enactments decentralizing control of companies; and (3) any other formal measures by the government decentralizing control of companies.

Since Hardware, Yongjian, Forever Holdings, Harvest, and Lihe have placed on the record a number of documents to demonstrate the absence of de jure control, including their business licenses and the “Company Law of the People's Republic of China.” Other than limiting these companies' operations to the activities referenced in the license, we noted no restrictive stipulations associated with the license. In addition, in previous cases, the Department has analyzed the “Company Law of the People's Republic of China” and found that it establishes an absence of de jure control. See, e.g., Notice of Final Determination of Sales at Less Than Fair Value: Certain Partial-Extension Steel Drawer Slides with Rollers from the People's Republic of China, 60 FR 54472, 54474 (October 24, 1995). We have no information in this proceeding which would cause us to reconsider this determination. Therefore, based on the foregoing, we have preliminarily found an absence of de jure control for these companies.

2. Absence of De Facto Control

The Department typically considers four factors in evaluating whether each respondent is subject to de facto governmental control of its export functions: (1) whether the export prices are set by, or subject to, the approval of a governmental authority; (2) whether the respondent has authority to negotiate and sign contracts and other agreements; (3) whether the respondent has autonomy from the government in making decisions regarding the selection of its management; and (4) whether the respondent retains the proceeds of its export sales and makes independent decisions regarding disposition of profits or financing of losses.

With regard to the issue of de facto control, Since Hardware, Yongjian, Forever Holdings, Harvest, and Lihe have reported the following: (1) there is no government participation in setting export prices; (2) their managers have authority to bind sales contracts; (3) they do not have to notify any government authorities of their management selection, and (4) there are no restrictions on the use of their export revenue and they are responsible for financing their own losses. Furthermore, our analysis of these companies' questionnaire responses reveals no other information indicating governmental control of export activities. Therefore, based on the information provided, we preliminarily determine that there is an absence of de facto government control. Consequently, we preliminarily determine that Since Hardware, Yongjian, Forever Holdings, Harvest, and Lihe have met the criteria for the application of separate rates. For a more detailed discussion of this issue, see Separate Rates Memo.

Margins for Cooperative Exporters Not Selected

To those exporters: (1) who submitted a timely response to section A of the Department's questionnaire, but were not selected as mandatory respondents, and (2) for whom the section A response indicates that the exporter is eligible for a separate rate, we assigned a weighted-average of the rates of the fully analyzed companies, excluding any rates that were zero, de minimis, or based entirely on facts available. See Notice of Final Determination of Sales at Less Than Fair Value: Certain Circular Welded Carbon-Quality Steel Pipe from the People's Republic of China, 67 FR 36570, 36571 (May 24, 2002) (Welded Steel Pipe). Companies receiving this rate are identified by name in the “Suspension of Liquidation” section of this notice.

The PRC-Wide Rate

In all NME cases, the Department makes a rebuttable presumption that all exporters located in the NME country comprise a single exporter under common government control, the “NME entity.” See Bicycles From the PRC. Although the Department provided all known PRC exporters of the subject merchandise with the opportunity to respond to our initial questionnaire, only Since Hardware, Yongjian, Forever, Harvest, Lerado, and Lihe responded. However, because other PRC companies did not submit a response to the Department's Section A quantity and value question, as discussed above in the “Case History” section of this notice, and thus did not demonstrate their entitlement to a separate rate, we have implemented the Department's rebuttable presumption that these exporters constitute a single enterprise under common control by the PRC government, and we are applying adverse facts available to determine the single antidumping duty rate, the PRC-wide rate, applicable to all other PRC exporters comprising this single enterprise. See, e.g., Final Determination of Sales at Less Than Fair Value: Synthetic Indigo from the People's Republic of China, 65 FR 25706, 25707 (May 3, 2000).

Use of Facts Otherwise Available

Section 776(a)(2) of the Act provides that, if an interested party withholds information that has been requested by the Department, fails to provide such information in a timely manner or in the form or manner requested, significantly impedes a proceeding under the antidumping statute, or provides information which cannot be verified, the Department shall use, subject to sections 782(d) and (e) of the Act, facts otherwise available in reaching the applicable determination. As explained above, some exporters of the subject merchandise failed to respond to the Department's request for information. The failure of these exporters to respond significantly impedes this proceeding. Thus, pursuant to section 776(a) of the Act, in reaching our preliminary determination, we have based the PRC-wide rate on total facts available.

In applying facts otherwise available, section 776(b) of the Act provides that, if the Department finds that an interested party “has failed to cooperate by not acting to the best of its ability to comply with a request for information,” the Department may use information that is adverse to the interests of that party as facts otherwise available. Adverse inferences are appropriate “to ensure that the party does not obtain a more favorable result by failing to cooperate than if it had cooperated fully.” See Statement of Administrative Action SAA accompanying the Uruguay Round Agreements Act, H.R. Doc. No. 316, 103d Cong., 2d Session at 870 (1994).Furthermore, “affirmative evidence of bad faith on the part of the respondent is not required before the Department may make an adverse inference.” See Antidumping Countervailing Duties; Final Rule, 62 FR 27296, 27340 (May 19, 1997). In this case, the complete failure of these exporters to respond to the Department's requests for information constitutes a failure to cooperate to the best of their ability.

For our preliminary determination, as adverse facts available, we have used the highest rate calculated for a respondent, i.e., the rate calculated for Yongjian. See Ta Chen Stainless Steel Pipe, Inc. v. United States, 298 F.3d 1330 (Fed. Cir. 2002) (affirming Commerce's application of adverse facts available and use of an adverse inference, resulting in the application of the highest available dumping margin to an uncooperative respondent). In an investigation, if the Department chooses as facts available a calculated dumping margin of another respondent, the Department will consider information reasonably at its disposal as to whether there are circumstances that would indicate that using that rate is inappropriate. In this investigation, there is no indication that Yongjian's calculated margin is inappropriate to use as adverse facts available.

Accordingly, for the preliminary determination, the PRC-wide rate is 153.76 percent. Because this is a preliminary margin, the Department will consider all margins on the record at the time of the final determination for the purpose of determining the most appropriate final PRC-wide margin.

Fair Value Comparison

To determine whether Since Hardware's and Yongjian's sales of ironing tables to customers in the United States were made at LTFV, we compared Export Price (EP) to NV, using our NME methodology, as described in the “Export Price” and “Normal Value” sections of this notice below. In accordance with section 777A(d)(1)(A)(i) of the Act, we calculated weighted-average EPs.

Export Price

In accordance with section 772(a) of the Act, EP is the price at which the subject merchandise is first sold (or agreed to be sold), before the date of importation, by the producer or exporter of the subject merchandise to an unaffiliated purchaser in the United States or to an unaffiliated purchaser for exportation to the United States, as adjusted under subsection (c).

We used an EP methodology in accordance with section 772(a) of the Act because Since Hardware and Yongjian sold subject merchandise to unaffiliated U.S. customers prior to importation and because a constructed export price methodology was not otherwise warranted. We calculated EP based on the packed, freight-on-board port-of-export price charged to the first unaffiliated customer for exportation to the United States. Where appropriate, we made deductions from the starting price (gross unit price) for foreign inland freight and brokerage and handling. Where foreign inland freight and brokerage and handling were provided by NME companies, we used surrogate values from India to value these expenses. See Memorandum from Sam Zengotitabengoa, International Trade Compliance Analyst, to the File, “Surrogate Country Factors of Production Values in the Preliminary Determination of the Antidumping Duty Investigation on Floor-Standing, Metal-Top Ironing Tables and Certain Parts Thereof from the People's Republic of China, dated concurrently with this notice (FOP Valuation Memo), on file in the CRU.

Normal Value

1. Surrogate Country

Section 773(c)(4) of the Act requires that the Department value the NME producer's factors of production, to the extent possible, based on the prices or costs of factors of production in one or more market economy countries that are: 1) at a level of economic development comparable to that of the NME country; and 2) significant producers of comparable merchandise. The Department's Office of Policy initially identified five countries that are at a level of economic development comparable to the PRC in terms of per-capita gross national product and the national distribution of labor. Those countries are India, Pakistan, Indonesia, Sri Lanka, and the Philippines. See Memorandum from Ron Lorentzen, Acting Director, Office of Policy, to Thomas F. Futtner, Acting Office Director, Office 4, “Request for a List of Surrogate Countries,” dated September 4, 2003, on file in the CRU. Among these countries, India is the most significant producer of comparable merchandise. Therefore, we have preliminarily calculated NV by applying Indian values to Since Hardware's and Yongjian's factors of production.

2. Factors of Production

In their questionnaire responses, Since Hardware and Yongjian reported factors of production for the manufacture of the subject merchandise during the POI. The factors of production include: (1) hours of labor required; (2) quantities of raw materials employed; (3) amounts of energy and other utilities consumed; and (4) representative capital costs. See Section 773(c)(3) of the Act. To calculate NV, we multiplied the reported per-unit quantities by publicly available surrogate values from India.

Generally, the surrogate values employed in the valuation of the factors of production were selected because of their quality, specificity, and contemporaneity. We modified those values not contemporaneous with the POI using wholesale price indices (WPI) published by the Office of the Economic Adviser to the Government of India, Ministry of Commerce and Industry, to account for inflation or deflation between the effective period and the POI. As appropriate, we included freight costs in input prices to make them delivered prices. Specifically, we added to the surrogate values a surrogate freight cost calculated using the shorter of the reported distance from the domestic input supplier to the factory processing subject merchandise or the distance from the nearest seaport to the relevant factory. This adjustment is in accordance with the Court of Appeals for the Federal Circuit's decision in Sigma Corp. v. United States, 117 F. 3d 1401, 1407-1408 (Fed. Cir. 1997).

To value inputs and packing materials that derived from market economy countries, we used the reported prices. We valued all other material inputs and packing materials using publicly available Indian import statistics from the appropriate Indian Harmonized Tariff Schedule classification, obtained from the Government of India, Ministry of Commerce and Industry, Director General, Commercial Intelligence and Statistics, as published in the World Trade Atlas (WTA). See FOP Valuation Memo. Because the Department has determined that Indonesia, South Korea, and Thailand maintain broadly available, non-industry specific export subsidies which may benefit all exporters to all export markets, we eliminated the quantities and values of imports from these countries from the import statistics used to calculate the surrogate values. See Final Determination of Sales at Less Than Fair Value: Certain Automotive Replacement Glass Windshields From the People's Republic of China, 67 FR 6482 (February 12, 2002). In addition, the Department eliminated Indian imports of non-market economy countries from the import statistics used to calculate the surrogate values.

One of the respondents purchased cold-rolled steel inputs from a market economy supplier in a market economy currency. At this time, the Department has generally available information indicating that the PRC government imposed an antidumping order on imports of cold-rolled steel products from various countries, including the country in question. See Memorandum from Sam Zengotitabengoa, International Trade Compliance Analyst, to the File, “PRC AD Final Determination,” dated concurrently with this notice, on file in the CRU. Because the Department has reason to believe or suspect that cold-rolled steel from the country in question is being dumped, we have disregarded prices for cold-rolled steel from this country, and instead used the Indian surrogate value for both respondents.

For energy, we valued argon gas using a 1997 price quote from an Indian producer of argon; diesel oil and electricity using the 2003 International Energy Agency's Key World Energy Statistics; and water using four price quotes reported by the Asian Development Bank on October 1997.

We valued labor using the latest regression-based wage rate for China found on Import Administration's Web page (http://ia.ita.doc.gov/wages/), as described in 19 CFR 351.408(c)(3).

To value foreign inland truck freight costs, we relied upon 17 price quotes used by the Department in the Notice of Final Determination of Sales at Less Than Fair Value: Bulk Aspirin From the People's Republic of China, 65 FR 33805 (May 25, 2000). We valued brokerage and handling using the average of the foreign brokerage and handling expenses in Certain Stainless Steel Wire Rod From India: Final Results of Administrative and New Shipper Review, 64 FR 856 (January 6, 1999).

Because the Department did not find industry specific data on the record to calculate the surrogate ratios for selling, general and administrative (SG&A) expenses, factory overhead, and profit, the Department used the “2001-2002 combined income, value of production, expenditure and appropriation accounts” for a sample of 2,024 public companies in India that were reported in the October 2003 Reserve Bank of India Bulletin.

For a complete analysis of surrogate values used in the preliminary determination, see FOP Valuation Memo.

Verification

In accordance with section 782(i) of the Act, we intend to verify all information relied upon in making our final determination.

Suspension of Liquidation

We are directing U.S. Customs and Border Protection (CBP) to suspend liquidation of all entries of ironing tables from the PRC entered, or withdrawn from warehouse, for consumption on or after the date on which this notice is published in the Federal Register. In addition, we are instructing CBP to require a cash deposit or the posting of a bond equal to the weighted-average amount by which the NV exceeds the EP, as indicated in the chart below. These instructions suspending liquidation will remain in effect until further notice.

We preliminarily determine that the following percentage weighted-average margins exist for the POI:

Manufacturer/exporter | Weighted-Average Margin (percent)
Since Hardware (Guangzhou) Co., Ltd. | 7.66
Shunde Yongjian Housewares Co., Ltd. | 153.76
Forever Holdings Ltd. | 69.59
Harvest International Housewares Ltd. | 69.59
Gaoming Lihe Daily Necessities Co., Ltd. | 69.59
PRC-Wide Rate. | 153.76

The PRC-wide rate applies to all entries of the subject merchandise except for entries from Since Hardware, Yongjian, Forever Holdings, Harvest, and Lihe.

Disclosure

In accordance with 19 CFR 351.224(b), the Department will disclose the calculations performed in the preliminary determination to interested parties within five days of the date of publication of this notice.

ITC Notification

In accordance with section 733(f) of the Act, we have notified the ITC of the Department's preliminary affirmative determination. If the final determination in this proceeding is affirmative, the ITC will determine before the later of 120 days after the date of this preliminary determination or 45 days after the final determination whether imports of ironing tables from the PRC are materially injuring, or threaten material injury to, the U.S. industry.

Public Comment

In accordance with 19 CFR 351.301(c)(3)(i), interested parties may submit publicly available information to value the factors of production for purposes of the final determination within 40 days after the date of publication of this preliminary determination. Case briefs or other written comments must be submitted to the Assistant Secretary for Import Administration no later than one week after issuance of the verification reports. Rebuttal briefs, the content of which is limited to the issues raised in the case briefs, must be filed within five days after the deadline for the submission of case briefs. A list of authorities used, a table of contents, and an executive summary of issues should accompany any briefs submitted to the Department. Executive summaries should be limited to five pages total, including footnotes. Further, we request that parties submitting briefs and rebuttal briefs provide the Department with a copy of the public version of such briefs on diskette.

In accordance with section 774 of the Act, we will hold a public hearing, if requested, to afford interested parties an opportunity to comment on arguments raised in case or rebuttal briefs. If a request for a hearing is made, we will tentatively hold the hearing two days after the deadline for submission of rebuttal briefs at the U.S. Department of Commerce, 14th Street and Constitution Avenue, N.W., Washington, DC 20230, at a time and in a room to be determined. Parties should confirm by telephone the date, time, and location of the hearing 48 hours before the scheduled date.

Interested parties who wish to request a hearing, or to participate in a hearing if one is requested, must submit a written request to the Assistant Secretary for Import Administration, U.S. Department of Commerce, Room 1870, within 30 days of the date of publication of this notice. Requests should contain: (1) the party's name, address, and telephone number; (2) the number of participants; and (3) a list of the issues to be discussed. At the hearing, oral presentations will be limited to issues raised in the briefs. See 19 CFR 351.310(c). The Department will make its final determination no later than 75 days after the preliminary determination.

This determination is issued and published in accordance with sections 733(f) and 777(i)(1) of the Act.

Dated: January 26, 2004.
James J. Jochum,
Assistant Secretaryfor Import Administration.

[FR Doc. 04-2168 Filed 2-2-04; 8:45 am]

BILLING CODE 3510-DS-S